DEPARTMENT OF COMMERCE

National Oceanic and Atmospheric Administration

RIN 0648-XE278

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Committee to consider actions affecting New England fisheries in the exclusive economic zone (EEZ). Recommendations from this group will be brought to the full Council for formal consideration and action, if appropriate.

DATES: This meeting will be held on Wednesday, November 18, 2015, at 9 a.m.

ADDRESSES: The meeting will be held at the Radisson Hotel Providence Airport, 2081 Post Road, Warwick, RI 02886; phone: (401) 739-3000; fax: (401) 732-9309.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee will receive an overview from the Groundfish Plan Development Team (PDT) on draft alternatives in Framework Adjustment 55 (FW 55) specifications, changes to the groundfish monitoring program, and other management measures and draft impacts analysis. They will also review a presentation on the results from Northeast Fisheries Science Center's bioeconomic model for recreational fisheries in the Gulf of Maine. The committee also plans to consider recommendations from the Groundfish Advisory Panel, regarding FW 55 and 2016 Council priorities. They will also consider recommendations from the Recreational Advisory Panel (RAP), regarding FW 55, FY 2016 Gulf of Maine cod and Gulf of Maine haddock recreational measures, and 2016 Council priorities. The committee also plans to develop recommendations to the Council regarding preferred alternatives in FW 55, FY 2016 recreational measures, and 2016 Council priorities. Also on the agenda is to discuss GARFO's Recreational Implementation Plan, review RAP recommendations to the Committee, and develop recommendations to the Council. They will also discuss other business as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: October 29, 2015.
Jeffrey N. Lonergan,
Acting Deputy Director, Office of Sustainable Fisheries, National Marine Fisheries Service.

[FR Doc. 2015-27949 Filed 11-2-15; 8:45 am]

BILLING CODE 3510-22-P